DEPARTMENT OF TRANSPORTATION

Federal Highway Administration

Notice To Rescind a Notice of Intent To Prepare an Environmental Impact Statement (EIS), Ada and Canyon Counties, ID

AGENCY: Federal Highway Administration.

ACTION: Rescind Notice of Intent to Prepare an Environmental Impact Statement (EIS).

SUMMARY: The FHWA is issuing this notice to advise the public that the Notice of Intent (NOI) published on July 17, 2007 to prepare an Environmental Impact Statement (EIS) for a proposed highway project in Ada County, Idaho is being rescinded.

FOR FURTHER INFORMATION CONTACT: Mr. Peter Hartman Division Administrator, Federal Highway Administration, 3050 Lakeharbor Lane, Suite 126, Boise, Idaho 83703, Telephone: (208) 334 9180, ext. 116, or Ms. Amy Schroeder, GARVEE Program Engineer, Idaho Transportation Department, P.O. Box 7129, Boise, Idaho 83703-1129, Telephone: (208) 334-8772.

SUPPLEMENTARY INFORMATION:

Background

The Idaho Transportation Department (ITD) and the Federal Highway Administration (FHWA) are rescinding the Notice of Intent (NOI) to prepare an EIS for a project that has been proposed to evaluate existing transportation improvement needs along approximately 16 miles of Interstate 84 (1-84) in Ada and Canyon Counties, Idaho. The project is officially known as the 1-84 Karcher Interchange to Five Mile Environmental Study (Project No. A010 (002); Key No. 10002).

The NOI is being rescinded because the current project development and NEPA process are yielding minimal potential for significant impacts and an EIS is not necessary or appropriate for the environmental evaluation.

The I-84 Environmental Study is identified in the COMPASS Communities in Motion: Regional Long-Range Transportation Plan 2030 (CIM) as one of several potential transportation needs in the Treasure Valley. The project was initiated with several conceptual alternatives from the previous planning efforts. The initially developed wide range of concept alternatives identified for evaluation in the I-84 Karcher to Five Mile Environmental Study had unknown and much greater potential for impacts. In response, it was thought that an EIS would be the best method to discuss impacts from the broad range of alternatives. This class of action was determined before the purpose and need statement was crafted.

Consequently, a Letter of Project Initiation and NOl was published on July 17, 2007 to prepare an EIS.

Public input, agency and stakeholder coordination was conducted under the SAFETEA-LU Environmental Review process. Public meetings were held on May 15, May 17, and November 6, 2007 to solicit comments from the public on the purpose and need, alternatives being considered and the alternative screening process.

The Participating Agency group convened on August 9 and October 25, 2007. Input from the public and agency meetings assisted in the establishment of the purpose and need for the project, and yielded the project range of alternatives to be considered. Some of the concept alternatives initially considered for the action, such as the development of a new corridor to the south and improvement of local streets, did not meet the established purpose and need and were therefore dismissed from further consideration. In addition, environmental scans and screening did not reveal potential for significant impacts from the remaining build alternatives. Subsequently added screening criteria effectively dismissed additional concept alternatives based on their reasonability, practicability, and constructability. Alternatives were developed and advanced into further screening where actual footprints are evaluated for impacts within the project limits. The screened alternatives to be advanced were presented to the public on March 19, 2008 and to participating agencies on April 2, 2008.

At this point in the project development process, no significant human or natural environmental impacts are evident in the 1-84 Karcher Interchange to Five Mile Road Environmental Study project that would require an ElS. If, at any point in the environmental process, it is determined that the action is likely to have a significant impact on the environment, the preparation of an EIS will be required.

To ensure that the full range of issues related to this proposed action and all significant issues are identified, comments and suggestions are invited from all interested parties regarding this action to rescind the NOl published July 17, 2007 for the highway project in Ada and Canyon County, Idaho. Comments or questions concerning this proposed action should be directed to the FHWA or lTD at the addresses provided above.

Peter J. Hartman,
Division Administrator, FHWA—Idaho Division.

[FR Doc. E8-16053 Filed 7-16-08; 8:45 am]

BILLING CODE 4910-RY-M